DEPARTMENT OF AGRICULTURE

Agricultural Marketing Service

[Docket No. FV02-999-2 NC]

Notice of Request for an Emergency Approval and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an emergency approval and revision of a currently approved information collection for the Regulation Governing Imports of Peanuts. The information collection for this program expires July 31, 2002. The emergency request was necessary because insufficient time was available to follow normal clearance procedures.

DATES: Comments on this notice must be received by September 24, 2002.

ADDITIONAL INFORMATION OR COMMENTS: Contact Caroline C. Thorpe, Marketing Specialist, Marketing Order Administration Branch, Fruit and Vegetable Programs, AMS, USDA, 1400 Independence Avenue, SW Stop 0237, Washington, DC 20250-0237; Tel: (202) 720-8139, Fax (202) 720-8938, or E-mail: moab.docketclerk@usda.gov.

Small businesses may request information on this notice by contacting Jay Guerber, Regulatory Fairness Representative, Marketing Order Administration Branch, Fruit and Vegetable Programs, AMS, USDA, 1400 Independence Avenue, SW Stop 0237, Washington, DC 20250-0237; telephone (202) 720-2491; Fax (202) 720-8938, or E-mail: Jay.Guerber@usda.gov.

SUPPLEMENTARY INFORMATION:

Title: Regulation Governing Imports of Peanuts, 7 CFR part 999.600.

OMB Number: 0581-0176.

Expiration Date of Approval: July 31, 2002.

Type of Request: Emergency approval and revision of a currently approved information collection.

Abstract: The peanut import regulation appears at 7 CFR part 999.600. This regulation has been authorized by Section 108B(f)(2) of the Agricultural Act of 1949 (7 U.S.C. 1445c3), as amended in 1990 and 1993, and by section 155 of the Federal Agriculture Improvement and Reform Act of 1996 (7 U.S.C. 7271). Section 1308 of the Farm Security and Rural Investment Act of 2002 (Public Law 107-171) (the 2002 Farm Bill) also provides for regulation of imported peanuts.

The import program ensures that peanuts intended for human consumption in the United States meet edible quality requirements. Peanuts which fail quality requirements must either be reconditioned to meet quality requirements, or be disposed to non-edible outlets. Poor quality peanuts may contain Aspergillus flavus mold (which may cause aflatoxin, a natural carcinogen).

The import regulation was issued June 11, 1996 (61 FR 31306), and the first practical effective date was January 1, 1997, when the import quota for Mexican peanuts was opened for 1997. The import quota for all foreign produced peanuts totals less than 3.5 percent of domestic peanut production of approximately 3.7 billion pounds.

Under the import program, no forms are required to be completed and filed. However, copies of documents on failing lots obtained during the importation and inspection process must be filed. These documents include: Failing grade inspection certificates, failing aflatoxin certificates, re-inspection grade and aflatoxin certificates, shipping bills of lading, and sales receipts to non-edible outlets (animal feed, crushing certificates), and re-export certification.

AMS is responsible for monitoring compliance with these quality and disposition regulations and uses the documents to ensure that importers comply with the regulations.

The information collected is used only by authorized representatives of the Department of Agriculture (USDA), including AMS, Fruit and Vegetable Programs' regional and headquarter's staff.

The estimated total burden is revised from the most recently approved hours of 256. While the total responses per respondents decreased, the total burden hours increased because the number of respondents increased from 15 to 38. The estimated total burden was, therefore, revised and increased.

Estimate of Burden: Total estimated burden for this collection is 433 hours. This includes a record keeping burden of 380 hours (38 respondents × 10 hours). In addition, there is a public reporting burden for this collection of information estimated to average .07 hours or about 4 minutes per response for a total of 53 burden hours.

Respondents: Peanut importers, as well as Customs brokers and other entities filing on behalf of importers.

Estimated Number of Respondents: 38.

Estimated Number of Responses per Respondent: 19.

Estimated Total Annual Burden on Respondents: 433 hours.

Comments: Comments are invited on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including through the use of appropriate automated, electronic, mechanical, or other technological collection techniques or other forms of information technology.

Comments should reference OMB No. 0581-0176 and the Peanut Import Regulation, Part 999.600, and be mailed to Docket Clerk, Fruit and Vegetable Programs, AMS, USDA, 1400 Independence Avenue, SW., Stop 0237, Washington, DC 20250-0237; Tel: (202) 720-2491, Fax: (202) 720-8938; Fax: (202) 720-8938; or E-mail: moab.docketclerk@usda.gov. All comments received will be available for public inspection during regular business hours at the same address.

All responses to this notice will be summarized and included in the request for OMB approval. All comments will also become a matter of public record.

Dated: July 22, 2002.
A.J. Yates,
Administrator, Agricultural Marketing Service.

[FR Doc. 02-18983 Filed 7-25-02; 8:45 am]

BILLING CODE 3410-02-P